SMALL BUSINESS ADMINISTRATION

[Disaster Declaration #10368 and #10369]

California Disaster Number CA-00029

AGENCY: U.S. Small Business Administration.

ACTION: Amendment 1.

SUMMARY: This is an amendment of the Presidential declaration of a major disaster for the State of California (FEMA-1628-DR) , dated 02/03/2006.

Incident: Severe storms, flooding, mudslides, and landslides.

Incident Period: 12/17/2005 through 01/03/2006.

Effective Date: 02/23/2006.

Physical Loan Application Deadline Date: 04/04/2006.

EIDL Loan Application Deadline Date: 11/03/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Presidential disaster declaration for the State of California, dated 02/03/2006, is hereby amended to include the following areas as adversely affected by the disaster:

Primary Counties:

El Dorado, Nevada, and Shasta.

Contiguous Counties:

California: Apline, Lassen, Plumas, Sierra, and Yuga.

Nevada: Douglas and Washore.

All other information in the original declaration remains unchanged.

(Catalog of Federal Domestic Assistance Numbers 59002 and 59008)

Cheri L. Cannon,
Acting Associate Administrator for Disaster Assistance.

[FR Doc. E6-3107 Filed 3-3-06; 8:45 am]

BILLING CODE 8025-01-P